DEPARTMENT OF HOMELAND SECURITY

Coast Guard

33 CFR Part 117

[CGD01-06-093]

Drawbridge Operation Regulations; Thames River, New London, CT

AGENCY: Coast Guard, DHS.

ACTION: Notice of temporary deviation from regulations.

SUMMARY: The Commander, First Coast Guard District, has issued a temporary deviation from the regulation governing the operation of the Amtrak Bridge, across the Thames River, mile 3.0, at New London, Connecticut. This deviation, in effect from July 14, 2006 through September 11, 2006, allows the bridge to remain in the closed position except during specific time periods when the bridge will remain open for the passage of vessel traffic. This deviation is necessary to facilitate unscheduled bridge repairs.

DATES: This deviation is effective from July 14, 2006 through September 11, 2006.

ADDRESSES: Materials referred to in this document are available for inspection or copying at the First Coast Guard District, Bridge Branch Office, One South Street, New York, New York, 10004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7165.

SUPPLEMENTARY INFORMATION: The Amtrak Bridge, across the Thames River, mile 3.0, at New London, Connecticut, has a vertical clearance in the closed position of 30 feet at mean high water and 33 feet at mean low water. The existing regulation is listed at 33 CFR 117.224.

The owner of the bridge, National Railroad Passenger Corporation (AMTRAK), requested a temporary deviation to facilitate unscheduled structural bridge repairs.

On June 29, 2006, the bridge owner discovered that one of the main bridge piers had shifted as a result of pile driving for the new adjacent Amtrak Bridge.

In order to perform corrective repairs, minimize structural impingement, and continue to provide for rail traffic, the bridge must remain in the closed position except during specific time periods during which the bridge will remain in the full open position for the passage of vessel traffic.

Therefore, under this temporary deviation in effect from July 14, 2006 through September 11, 2006, the Amtrak Bridge across the Thames River, mile 3.0, at New London, Connecticut, shall remain in the full open position for the passage of vessel traffic as follows:

Monday through Friday: 5 a.m. to 5:40 a.m.; 11:20 a.m. to 11:55 a.m.; 3:34 p.m. to 4:15 p.m.; and 8:30 p.m. to 8:57 p.m.

Saturday: 8:30 a.m. to 9:10 a.m.; 12:36 p.m. to 1:05 p.m.; 3:40 p.m. to 4:10 p.m.; 5:34 p.m. to 6:07 p.m.; and 7:33 p.m. to 8:40 p.m.

Sunday: 8:30 a.m. to 9:20 a.m.; 11:35 a.m. to 12:15 p.m.; 1:27 p.m. to 1:55 p.m.; 6:27 p.m. to 7:13 p.m.; and 8:28 p.m. to 9:16 p.m.

At all other times the draw shall remain in the closed position. Vessels that can pass under the draw without a bridge opening may do so at all times.

The bridge owner did not provide the required thirty-day notice to the Coast Guard for this deviation; however, this deviation was approved because the repairs are necessary repairs that must be performed with undue delay in order to assure the continued safe reliable operation of the bridge.

In accordance with 33 CFR 117.35(c), this work will be performed with all due speed in order to return the bridge to normal operation as soon as possible.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable. This deviation from the operating regulations is authorized under 33 CFR 117.35(b).

Dated: July 14, 2006.
Gary Kassof,
Bridge Program Manager, First Coast Guard District.

[FR Doc. E6-11730 Filed 7-21-06; 8:45 am]

BILLING CODE 4910-15-P